DEPARTMENT OF STATE

[Delegation of Authority No. 279]

Delegation of Authority to the Global AIDS Coordinator Under the United States Leadership Against HIV/AIDS, Tuberculosis, and Malaria Act of 2003 (Subsequently Superseded by Delegation No. 145-19)

By virtue of the authority vested in me as Deputy Secretary of State, including the authority delegated to me by the Secretary of State in Delegation of Authority Number 245 of April 23, 2001, and by the Foreign Assistance Act of 1961, as amended (22 U.S.C. 2151 et seq.), and section 1 of the State Department Basic Authorities Act of 1956, as amended (22 U.S.C. 2651a), I hereby re-delegate the authorities conferred upon the President by the United States Leadership Against HIV/AIDS, Tuberculosis, and Malaria Act of 2003 (Pub. L. 108-25) and delegated to the Secretary of State pursuant to the Executive Order of November 16, 2004, (Assignment of Functions under the United States Leadership Against HIV/AIDS, Tuberculosis, and Malaria Act of 2003), amending Executive Order 12163 of September 29, 1979 (Administration of Foreign Assistance and Related Functions).

Notwithstanding any provision of this Delegation of Authority, the Secretary of State and the Deputy Secretary of State may at any time exercise any function delegated by this delegation of authority.

This delegation shall be published in the Federal Register.

Dated: November 17, 2004.
Richard L. Armitage,
Deputy Secretary of State, Department of State.
Editorial Note: This document was received at the Office of the Federal Register on April 8, 2005.

[FR Doc. 05-7416 Filed 4-12-05; 8:45 am]

BILLING CODE 4710-10-P